DEPARTMENT OF COMMERCE

Foreign-Trade Zones Board

[Docket 53-2002]

Foreign-Trade Zone 26—Atlanta, GA; Application for Subzone Status; Amendment of Application—Ricoh Electronics, Inc. (Copiers, Printers, Thermal Paper and Related Products)

Notice is hereby given that the application of the Georgia Foreign-Trade Zone, Inc., grantee of FTZ 26, requesting special-purpose subzone status for the toner cartridges, related toner products, and thermal paper products manufacturing plant of Ricoh Electronics, Inc. (Ricoh) in Lawrenceville, Georgia (67 FR 72642, 12/6/02), has been amended to include additional products in its scope of manufacturing authority under zone procedures and to clarify certain elements of its proposed FTZ inventory management procedures.

The applicant is requesting to add electrical machines having individual functions not specified elsewhere (HTSUS 8543) to its imported parts list; and, photographic film in rolls, sensitized and unexposed (HTSUS 3702); other plastic plates, sheets, film, foil and strips (HTSUS 3921); and electrical machines having individual functions not specified elsewhere (HTSUS 8543) to its finished product list.

It also seeks to clarify its proposed FTZ inventory management procedures with respect to its thermal paper products. Master rolls of both thermal tag paper (HTSUS 4811.90.8000) and synthetic thermal paper (HTSUS 4811.51.2050) will be entered into U.S. Customs territory from the proposed subzone, instead of customer specified lengths of thermal tag paper and synthetic thermal paper (HTSUS 4811.90.9000 and HTSUS 4811.51.6000, respectively). The applicant indicates that this would simplify and facilitate FTZ entry procedures for these final products.

The application remains otherwise unchanged.

The comment period is reopened until April 2, 2003.

Dated: February 20, 2003.
Dennis Puccinelli,
Executive Secretary.

[FR Doc. 03-4924 Filed 2-28-03; 8:45 am]

BILLING CODE 3510-DS-P